DEPARTMENT OF AGRICULTURE

Natural Resources Conservation Service

Magma Flood Retarding Structure (FRS) Supplemental Watershed Plan, Pinal County, AZ

AGENCY: Natural Resources Conservation Service.

ACTION: Notice of a Finding of No Significant Impact.

SUMMARY: Pursuant to Section 102(2)(C) of the National Environmental Policy Act of 1969; the Council on Environmental Quality Regulations (40 CFR part 1500); and the Natural Resources Conservation Service (NRCS) Regulations (7 CFR part 650); the Natural Resources Conservation Service, U.S. Department of Agriculture, gives notice that an environmental impact statement is not being prepared for the Magma Flood Retarding Structure (FRS) Supplemental Watershed Plan, Pinal County, Arizona.

FOR FURTHER INFORMATION CONTACT: David L. McKay, State Conservationist, USDA-NRCS, 230 North First Avenue, Suite 509, Phoenix, Arizona 85003, telephone (602) 280-8801.

SUPPLEMENTARY INFORMATION: The environmental assessment of this federally assisted action indicates that the project will not cause significant local, regional, or national impacts on the environment. Based on evidence presented, David L. McKay, State Conservationist, has determined that the preparation and review of an environmental impact statement are not needed for this project.

The project proposes to rehabilitate the Magma FRS to provide for continued flood protection for a portion of the Town of Florence and surrounding areas, while meeting NRCS and State of Arizona safety and performance standards.

The Notice of a Finding of No Significant Impact (FONSI) has been forwarded to the Environmental Protection Agency and to various Federal, State, and local agencies and interested parties. Copies of the FONSI are available to fill single copy requests at the above address. Basic data developed during the environmental assessment are on file and may be reviewed by contacting Don Paulus, Assistant State Conservationist for Programs, at the above address.

(This activity is listed in the Catalog of Federal Domestic Assistance under No. 10.904, Watershed Protection and Flood Prevention, and is subject to the provisions of Executive Order 12372, which requires intergovernmental consultation with State and local officials.)

Dated: May 14, 2010.
David L. Mckay,
State Conservationist.

[FR Doc. 2010-12447 Filed 5-21-10; 8:45 am]

BILLING CODE 3410-16-P